DEPARTMENT OF ENERGY

Federal Energy Regulatory Commission

Combined Notice Of Filings #2

Take notice that the Commission received the following electric rate filings:

Docket Numbers: ER15-2606-000.

Applicants: Southern California Edison Company.

Description: § 205(d) Rate Filing: SGIA Central Antelope Dry Ranch C LLC to be effective 9/4/2015.

Filed Date: 9/3/15.

Accession Number: 20150903-5077.

Comments Due: 5 p.m. ET 9/24/15.

Docket Numbers: ER15-2607-000.

Applicants: PECO Energy Company, Exelon Generating Company, LLC.

Description: Exelon Corporation submits Notice of Cancellation of Rate Schedule 128 on behalf of affiliates PECO Energy Company and Exelon Generating Company, LLC.

Filed Date: 9/3/15.

Accession Number: 20150903-5101.

Comments Due: 5 p.m. ET 9/24/15.

Docket Numbers: ER15-2608-000.

Applicants: PJM Interconnection, L.L.C.

Description: § 205(d) Rate Filing: Original WMPA SA No. 4253, Queue No. AA1-073 to be effective 8/27/2015.

Filed Date: 9/3/15.

Accession Number: 20150903-5123.

Comments Due: 5 p.m. ET 9/24/15.

Docket Numbers: ER15-2609-000.

Applicants: AEP Texas North Company.

Description: § 205(d) Rate Filing: TNC-Rocksprings Val Verde Wind Wind SUA to be effective 8/12/2015.

Filed Date: 9/3/15.

Accession Number: 20150903-5139.

Comments Due: 5 p.m. ET 9/24/15.

Docket Numbers: ER15-2610-000.

Applicants: AEP Texas Central Company.

Description: § 205(d) Rate Filing: TCC-Rocksprings Val Verde Wind Interconnection Agreement to be effective 8/12/2015.

Filed Date: 9/3/15.

Accession Number: 20150903-5140.

Comments Due: 5 p.m. ET 9/24/15.

Docket Numbers: ER15-2611-000.

Applicants: AEP Texas Central Company.

Description: § 205(d) Rate Filing: TCC-Magic Valley Wind Farm II Interconnection Agreement to be effective 8/12/2015.

Filed Date: 9/3/15.

Accession Number: 20150903-5141.

Comments Due: 5 p.m. ET 9/24/15.

Docket Numbers: ER15-2612-000.

Applicants: PJM Interconnection, L.L.C.

Description: § 205(d) Rate Filing: Second Revised WMPA SA No. 3147, Queue No. W4-103 to be effective 8/27/2015.

Filed Date: 9/3/15.

Accession Number: 20150903-5157.

Comments Due: 5 p.m. ET 9/24/15.

Docket Numbers: ER15-2613-000.

Applicants: PJM Interconnection, L.L.C.

Description: § 205(d) Rate Filing: Revisions to MISO-PJM JOA Att 3 Section 4 re Day-ahead M2M Provisions to be effective 9/30/2015.

Filed Date: 9/3/15.

Accession Number: 20150903-5165.

Comments Due: 5 p.m. ET 9/24/15.

Docket Numbers: ER15-2614-000.

Applicants: Midcontinent Independent System Operator, Inc.

Description: § 205(d) Rate Filing: 2015-09-03_MISO-PJM JOA DA M2M FFE Filing to be effective 9/30/2015.

Filed Date: 9/3/15.

Accession Number: 20150903-5173.

Comments Due: 5 p.m. ET 9/24/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 3, 2015.
Nathaniel J. Davis, Sr.,
Deputy Secretary.

[FR Doc. 2015-22808 Filed 9-9-15; 8:45 am]

BILLING CODE 6717-01-P